DEPARTMENT OF EDUCATION

Notice of Submission for OMB Review; Federal Student Aid; William D. Ford Federal Direct Loan (Direct Loan) Program: Internship/Residency and Loan Debt Burden Forbearance Forms

SUMMARY: These forms serve as the means by which a borrower may request forbearance of repayment on his or her William D. Ford Federal Direct Loan (Direct Loan) or Federal Family Education Loan (FFEL) Program loans based on participation in an eligible internship/residency program, National Guard duty, receiving benefits under the Department of Defense's Student Loan Repayment Program, or having a federal education loan debt burden that equals or exceeds 20 percent of the borrower's monthly gross income.

DATES: Interested persons are invited to submit comments on or before June 20, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04798. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Acting Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: William D. Ford Federal Direct Loan (Direct Loan) Program: Internship/Residency and Loan Debt Burden Forbearance Forms.

OMB Control Number: 1845-0018.

Type of Review: Revision.

Total Estimated Number of Annual Responses: 25,842.

Total Estimated Number of Annual Burden Hours: 5,814.

Abstract: The U.S. Department of Education and FFEL Program lenders and servicers use the information collected on these forms to determine whether a borrower meets the eligibility requirements for the specific forbearance type that the borrower has requested. This collection is being revised so that it may be used by both the Direct Loan and FFEL Programs and also expands one of the mandatory forbearance forms to include additional mandatory forbearances; as a result, additional data elements have been added to support the additional forbearances.

Dated: May 11, 2012.
Kate Mullan,
Acting Director, Information Collection Clearance Division, Privacy, Information and Records Management Services, Office of Management.

[FR Doc. 2012-11974 Filed 5-18-12; 8:45 am]

BILLING CODE 4000-01-P